ENVIRONMENTAL PROTECTION AGENCY

40 CFR Parts 141 and 142

[WH-FRL-7036-3]

RIN 2040-AB75

National Primary Drinking Water Regulations; Arsenic and Clarifications to Compliance and New Source Contaminants Monitoring

AGENCY: Environmental Protection Agency (EPA).

ACTION: Proposed rule; correction.

SUMMARY: Today's document announces a separate electronic mail (e-mail) address, ow-arsenic-docket@epa.gov, for arsenic comments on the proposal published on July 19, 2001, in the Federal Register. EPA expects a large number of comments on the July 19 arsenic proposal, based on public interest, so e-mail submissions to the new arsenic docket address will help the Agency process comments. In addition, today's document provides the new phone number for the Safe Drinking Water Hotline: (703) 412-3330. The Hotline's toll free number remains unchanged: (800) 426-4791.

The July 19 proposal requested comment on key science, cost analyses, and benefits issues, as well as small systems compliance issues for the arsenic regulation. However the July proposal does not affect the clarifications to compliance and new source contaminants monitoring regulations also issued on January 22, 2001, for inorganic, volatile organic, and synthetic organic contaminants.

DATES: Your comments on the July 19 arsenic proposal must be in writing and either postmarked or received by EPA's Water Docket by October 31, 2001.

ADDRESSES: EPA accepts comments by three delivery methods:

(1) Mail sent to the W-99-16-VI Arsenic Comments Clerk, Water Docket (MC-4101); U.S. EPA; 1200 Pennsylvania Avenue, NW; Washington, DC 20460.

(2) Hand delivery (e.g., courier or overnight delivery service) to EPA's Water Docket, located at 401 M Street, SW; East Tower Basement Room 57; in Washington, DC; between 9:00 a.m. and 3:30 p.m. Eastern Time, Monday through Friday.

(3) Electronically sent to ow-arsenic-docket@epa.gov. See SUPPLEMENTARY INFORMATION for file formats and other information about electronic filing and docket review.

FOR FURTHER INFORMATION CONTACT: The Safe Drinking Water Hotline, phone: (800) 426-4791 or its new local number (703) 412-3330, e-mail: hotline-sdwa@epa.gov for general information, meeting information, and copies of arsenic regulations and some of the support documents. For questions about the arsenic regulation, contact Irene Dooley, (202) 260-9531, e-mail: dooley.irene@epa.gov. EPA's web page contains links to arsenic Federal Register notices and arsenic technical support documents at www.epa.gov/safewater/arsenic.html.

SUPPLEMENTARY INFORMATION:

Additional Information for Commenters

No facsimiles (faxes), compressed or zipped files will be accepted, and comments must be submitted in writing. Please submit an original and three copies of your comments and enclosures (including references) and identify your submission by the docket number W-99-16-VI. To ensure that EPA can read, understand, and therefore properly respond to comments, the Agency would prefer that comments cite, where possible, the question(s) or sections and page numbers in the document or supporting documents to which each comment refers. Commenters should use a separate paragraph for each issue discussed. Commenters who want EPA to acknowledge receipt of their comments should include a self-addressed, stamped envelope.

EPA uses WordPerfect as its standard software, so e-mail file attachments must be submitted in WordPerfect 8 (or older version) or ASCII file format (unless four hard copies are also submitted). Comments submitted in other electronic formats (e.g., Word, pdf, Excel, and compressed or zipped files) must also be submitted as hard copies. For purposes of dating dual hard copy/electronic copy submissions, the date of the electronic copy will be recorded as the date submitted. At the beginning of your e-mail, please indicate if you are sending hard copies so the Docket can link your two submissions rather than log in two sets of your comments. Electronic comments on this document may be filed online at many Federal Depository Libraries.

In providing comment on the issues listed in the July 19 proposal (66 FR 37617), commenters should focus on the preamble, technical support documents, and record associated with the January 22, 2001, arsenic in drinking water regulation (66 FR 6976), not the June 2000 proposal (65 FR 38888). EPA made many changes to the analyses supporting the January decisions in response to public comment on the June 2000 proposal. The Agency addressed comments on the June 2000 proposed rule in the response-to-comments document in the docket for W-99-16-III and summarized responses to the major comments in the preamble of the January 2001 regulation.

In developing comments, commenters may also wish to consider information from the reviews described in the July proposal. EPA plans to announce when the new reviews are available. EPA will consider the new information and provide an additional opportunity for public comment this fall on the new analyses along with EPA's preliminary conclusion about whether the January 2001 arsenic rule should be revised, and if so, what the revised standard should be.

EPA's Review of Comments

E-mail submissions to the new arsenic docket address, ow-arsenic-docket@epa.gov, will help the Agency process comments. Over 20,000 people submitted 1,112 on-time comments during the 14-day comment period for the April 23 proposal to extend the effective date to February 22, 2002. However, electronic arsenic comments sent to ow-docket@epa.gov will also become part of the arsenic record.

In the July 19 proposal, EPA requested comment on whether the data and technical analyses associated with the arsenic rule published in the January 22, 2001, Federal Register (66 FR 6976), as well as any new information that may be available, would support setting the enforceable arsenic drinking water standard, or Maximum Contaminant Level (MCL), at 3 micrograms per liter (μg/L) (the feasible level), 5 μg/L (the level proposed in June 2000), 10 μg/L (the level published in the January 2001 rule), 20 μg/L, or an alternative level. The Agency's response-to-comments document for the final decision on the arsenic standard will address the comments received for the July 19 proposal, and this document will be made available in the docket. The response-to-comment document will also address comments on EPA's perspective of the new analyses, and EPA expects that notice will be published in the fall of 2001. To facilitate development of the response-to-comments document, EPA appreciates receiving an electronic version in addition to the original and three copies for large submissions (e.g., over 10 pages). The Agency does not send out individual replies to respond to those who submit comments.

Availability of Docket

For an appointment to review the docket for this rulemaking, call (202) 260-3027 between 9:00 a.m. and 3:30 p.m. Eastern Daylight Time, Monday through Friday and refer to Docket W-99-16-VI. Every user is entitled to 100 free pages, and after that the Docket charges 15 cents a page. Users are invoiced after they copy $25, which is 267 photocopied pages.

Dated: August 13, 2001.
Ephraim King,
Acting Director, Office of Ground Water and Drinking Water.

[FR Doc. 01-20773 Filed 8-15-01; 8:45 am]

BILLING CODE 6560-50-P